DEPARTMENT OF TRANSPORTATION

Federal Aviation Administration

14 CFR Part 71

[Docket No. FAA-2012-1142; Airspace Docket No. 12-ANM-25]

Amendment of Class D and Class E Airspace; Portland-Hillsboro, OR

AGENCY: Federal Aviation Administration (FAA), DOT.

ACTION: Final rule.

SUMMARY: This action modifies Class E airspace at Portland-Hillsboro Airport, Portland-Hillsboro, OR, to accommodate aircraft departing and arriving under Instrument Flight Rule (IFR) operations at the airport. Also, the geographic coordinates are updated for the airport. This action, initiated by the biennial review of the Portland-Hillsboro airspace area, improves the safety and management of IFR operations at the airport.

DATES: Effective date, 0901 UTC, August 22, 2013. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On December 21, 2012, the FAA published in the Federal Register a notice of proposed rulemaking (NPRM) to amend controlled airspace at Portland-Hillsboro, OR (77 FR 75593). This action was initiated by a biennial review of the airspace. Interested parties were invited to participate in this rulemaking effort by submitting written comments on the proposal to the FAA. No comments were received.

Class E airspace designations are published in paragraphs 5000, 6002 and 6004, respectively, of FAA Order 7400.9W dated August 8, 2012, and effective September 15, 2012, which is incorporated by reference in 14 CFR 71.1. The Class E airspace designations listed in this document will be published subsequently in that Order.

The Rule

This action amends Title 14 Code of Federal Regulations (14 CFR) Part 71 by modifying Class E airspace designated as an extension to Class D surface area. The size of the Class E airspace to the northwest has been reduced, the Class E airspace to the south removed, and additional Class E airspace created south southeast of the Portland-Hillsboro Airport. The geographic coordinates of the airport also are updated to coincide with the FAA's aeronautical database. This action enhances the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Portland-Hillsboro Airport, Portland-Hillsboro, OR.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air)

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012 is amended as follows:

Paragraph 5000 Class D airspace.

* * * * *

ANM OR D Portland-Hillsboro, OR [Modified]

Portland-Hillsboro Airport, OR

(Lat. 45°32′26″ N., long. 122°57′01″ W.)

That airspace extending upward from the surface to and including 2,700 feet MSL within a 4.2-mile radius of Portland-Hillsboro Airport. This Class D airspace area is effective during the specific dates and times established in advance by a Notice to Airmen. The effective date and time will thereafter be continuously published in the Airport/Facility Directory.

Paragraph 6002 Class E airspace designated as surface areas.

* * * * *

ANM OR E2 Portland-Hillsboro, OR [Modified]

Portland-Hillsboro Airport, OR

(Lat. 45°32′26″ N., long. 122°57′01″ W.)

That airspace extending upward from the surface within a 4.2-mile radius of Portland-Hillsboro Airport. This Class E airspace area is effective during the specific dates and times established in advance by a Notice to Airmen. The effective date and time will thereafter be continuously published in the Airport/Facility Directory.

Paragraph 6004 Class E airspace areas designated as an extension to Class D surface area.

* * * * *

ANM OR E4 Portland-Hillsboro, OR [Modified]

Portland-Hillsboro Airport, OR

(Lat. 45°32′26″ N., long. 122°57′01″ W.)

That airspace extending upward from the surface within 1 mile each side of the 144° bearing of the airport extending from the 4.2-mile radius to 5.5 miles southeast of the airport and within 1.5 miles each side of the 323° bearing of the airport extending from the 4.2-mile radius of the airport to 7 miles northwest of the airport.

Issued in Seattle, Washington, on May 12, 2013.
Clark Desing,
Manager, Operations Support Group, Western Service Center.

[FR Doc. 2013-12314 Filed 5-23-13; 8:45 am]

BILLING CODE 4910-13-P